COMMITTEE FOR PURCHASE FROM PEOPLE WHO ARE BLIND OR SEVERELY DISABLED

Procurement List: Proposed Deletions

AGENCY: Committee for Purchase From People Who Are Blind or Severely Disabled.

ACTION: Proposed Deletions From Procurement List.

SUMMARY: The Committee is proposing to delete from the Procurement List services previously provided by nonprofit agencies employing persons who are blind or have other severe disabilities.

Comments must be received on or before: 12/28/2009.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Deletions

Regulatory Flexibility Act Certification

I certify that the following action will not have a significant impact on a substantial number of small entities. The major factors considered for this certification were:

1. If approved, the action will not result in additional reporting, recordkeeping or other compliance requirements for small entities.

2. If approved, the action may result in authorizing small entities to provide the services to the Government.

3. There are no known regulatory alternatives which would accomplish the objectives of the Javits-Wagner-O'Day Act (41 U.S.C. 46-48c) in connection with the services proposed for deletion from the Procurement List.

End of Certification

The following services are proposed for deletion from the Procurement List:

Services:

Service Type/Location: Declassification/Demilitarization of Hardware, Robins Air Force Base, GA.

NPA: Epilepsy Association of Georgia, Warner Robins, GA.

Contracting Activity: Dept of the Air Force, FA8501 WR ALC PKO, Robins AFB, GA.

Service Type/Location: Janitorial/Custodial, USDA, Building 255E, Sanford Airport, Sanford, FL.

NPA: SMA Behavioral Health Services, Inc., Daytona Beach, FL.

Contracting Activity: Dept of Agriculture, Animal and Plant Health Inspection Service, Minneapolis, MN.

Service Type/Location: Food Service Attendant, Fort McPherson Building 61, Consolidated Enlisted Dining Facility, Fort McPherson, GA.

NPA: Bobby Dodd Institute, Inc., Atlanta, GA.

Contracting Activity: Dept of the Army, XR W40M Natl Region Contract OFC, Washington, DC.

Service Type/Location: Janitorial/Mechanical Maintenance, U.S. Federal Building and Post Office, 200 East Washington Street, Greenwood, MS.

NPA: AbilityWorks, Inc. of Greenwood, Greenwood, MS.

Contracting Activity: GSA, Public Buildings Service/Property Management Contracts, Atlanta, GA.

Barry S. Lineback,
Director, Business Operations.

[FR Doc. E9-28425 Filed 11-25-09; 8:45 am]

BILLING CODE 6353-01-P